DEPARTMENT OF THE INTERIOR

National Park Service

National Register of Historic Places; Notification of Pending Nominations and Related Actions

Nominations for the following properties being considered for listing or related actions in the National Register were received by the National Park Service before May 15, 2010. Pursuant to section 60.13 of 36 CFR part 60, written comments are being accepted concerning the significance of the nominated properties under the National Register criteria for evaluation. Comments are also being accepted on the following properties being considered for removal pursuant to 36 CFR 60.15. Comments may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by June 23, 2010.

Before including your address, phone number, e-mail address, or other personal identifying information in your comment, you should be aware that your entire comment—including your personal identifying information—may be made publicly available at any time. While you can ask us in your comment to withhold your personal identifying information from public review, we cannot guarantee that we will be able to do so.

Paul Loether,
Chief, National Register of Historic Places/National Historic Landmarks Program.

ARKANSAS

Pulaski County

Main Street Commercial District, The 300 block of Main St bounded by E 3rd on the N and E 4th on the S, Little Rock, 10000396

CALIFORNIA

Mendocino County

Ford, Jerome B., House, 735 Main St, Mendocino, 10000394

FLORIDA

Citrus County

The Masonic Temple of Citrus, Lodge #18, F. and A.M., 111 W Main St, Inverness, 10000387

INDIANA

Cass County

Atkinson, Josephus, Farm, 4474 W. County Rd 400 S., Clymers, 10000373

Hamilton County

Thornhurst Addition, (Historic Residential Suburbs in the United States, 1830-1960 MPS) Bounded by 650 to 742 W Main St, Thornhurst Dr and Rogers Ct, Carmel, 10000378

Lake County

Nichols, Charles E., House, 231 W Commercial Ave, Lowell, 10000375

Northern States Life Insurance Company, 5935 Hohman Ave, Hammond, 10000376

Porter County

Haste-Crumpacker House, 208 N Michigan St, Valparaiso, 10000374

Randolph County

Union City School, (Indiana's Public Common and High Schools MPS) 310 N Walnut St, Union City, 10000379

Wabash County

Peabody Memorial Tower, 400 W 7th St, North Manchester, 10000377

LOUISIANA

Calcasieu Parish

Cash Grocery and Sales Company Warehouse, 801 Enterprise Blvd, Lake Charles, 10000395

East Baton Rouge Parish Rabalais House, 1300 Steele Blvd, Baton Rouge, 10000388

MASSACHUSETTS

Berkshire County

Fitch-Hoose House, 6 Gulf Rd, Dalton, 10000390

Bristol County

Hazelwood Park, 597-603 Brock Ave, New Bedford, 10000389

Suffolk County

Second Church in Boston, 874, 876, 880 Beacon St, Boston, 10000391

MISSOURI

Clay County

Colonial Hotel, 328 E Broadway, Excelsior Springs, 10000392

NORTH DAKOTA

McHenry County

Denbigh Station and Experimental Forest, State Hwy 2, Denbigh, 10000380

PENNSYLVANIA

Allegheny County

Hamnett Historic District, Roughly bounded by Rebecca Ave, rear property lines on the east side of Center St, Sewer Way, Lytle Way * * *, Wilkinsburg, 10000408

Berks County

Hamburg Historic District, Roughly bounded by Franklin, Windsor, Walnut and Second Sts, Quince, Primrose, Peach and Plum Alleys and Mill Creek, Hamburg, 10000398

Cumberland County

Newville Historic District, Roughly bounded by Cove Alley, Big Spring Creek, the Cumberland Valley Railroad right-of-way, Washington St, Newville, 10000397

Dauphin County

Camp Curtin Memorial Methodist Episcopal Church, 2221 N Sixth St, Harrisburg, 10000400

Lebanon County

Colebrook Iron Master's House, 5200 Elizabethtown Rd, South Londonderry, 10000405

Salem Evangelical Lutheran Church, 119 N Eighth St, Lebanon, 10000402

Lehigh County

Martin Tower, 1170 8th Ave, Bethlehem, 10000401

Northampton County

Heller, Michael and Margaret, House, 1890-1892 Friedensville Rd, Lower Saucon, 10000399

Philadelphia County

Callowhill Industrial Historic District, Roughly bounded by Pearl St, N Broad St, Hamilton St, and the Reading Railroad Viaduct, Philadelphia, 10000403

H.W. Butterworth and Sons Company Building, 2410 E York St, Philadelphia, 10000406

Steel Heddle Manufacturing Company Complex, 2100 W Allegheny Ave, Philadelphia, 10000404

Wayne County

Bellemonte Silk Mill, 230 Welwood Ave, Hawley, 10000407

SOUTH DAKOTA

Lake County

Washington School, (Schools in South Dakota MPS) 514 N Washington, Madison, 10000411

Lincoln County

Elster, Anthon W., House, 27765 476th Ave, Canton, 10000412

Minnehaha County

Hilmoe, Hans J., Barn, 47170 Homestead St, Baltic, 10000410

Pennington County

Rapid City High School, 615 Columbus St, Rapid City, 10000409

VERMONT

Windsor County

Slayton-Morgan Historic District, Address Restricted, Woodstock, 10000386

VIRGINIA

Albemarle County

Daughters of Zion Cemetery, Corner of First and Oak Sts, Charlottesville, 10000382

Prince Edward County

Worsham High School, 8832 Abilene Rd, Farmville, 10000384

Russell County

Blackford Bridge, Chestnut Rd (Rte 652), Lebanon, 10000381

Winchester Independent City

George Washington, The, Hotel, 103 E Piccadilly St, Winchester, 10000383

WISCONSIN

Door County

Plum Island Life-Saving and Light Station, Plum Island, Washington, 10000385

[FR Doc. 2010-13618 Filed 6-7-10; 8:45 am]

BILLING CODE 4312-51-P